NATIONAL SCIENCE FOUNDATION

Committee Management; Renewal

The NSF management officials having responsibility for the two advisory committees listed below have determined that renewing these groups for another two years is necessary and in the public interest in connection with the performance of duties imposed upon the Director, National Science Foundation by 42 U.S.C. 1861, et seq. This determination follows consultation with the Committee Management Secretariat, General Services Administration.

1. Advisory Committee for Environmental Research and Education (#9487).

2. Proposal Review Panel for Industrial Innovation and Partnerships (#28164).

The effective date for renewal will be February 29, 2008. For more information contact Susanne Bolton at (703) 292-7488.

Dated: February 21, 2008.
Susanne E. Bolton,
Committee Management Officer.

[FR Doc. E8-3612 Filed 2-25-08; 8:45 am]

BILLING CODE 7555-01-P